DEPARTMENT OF TRANSPORTATION

Federal Aviation Administration

Proposed Advisory Circular (AC) 25.613-1X, Material Strength Properties and Material Design Values

AGENCY: Federal Aviation Administration, DOT.

ACTION: Notice of proposed advisory circular.

SUMMARY: The Federal Aviation Administration invites public comment on a proposed new advisory circular. The advisory circular provides guidance related to a notice of proposed rulemaking published elsewhere in this issue of the Federal Register concerning material strength properties and material design values for transport category airplanes. This action provides interested persons an opportunity to comment on the proposed advisory circular concurrent with the proposed rulemaking.

DATES: Send your comments on or before April 1, 2002.

ADDRESSES: You should send your comments on the proposed AC to Rich Yarges, Federal Aviation Administration, Airframe/Cabin Safety Branch, ANM-115, Transport Airplane Directorate, Aircraft Certification Service, 1601 Lind Ave SW., Renton, WA 98055-4056. You may also submit comments electronically to: rich.yarges@faa.gov.

FOR FURTHER INFORMATION CONTACT: Rich Yarges at the above address, telephone (425) 227-2143, or facsimile (425) 227-1320.

SUPPLEMENTARY INFORMATION:

How Do I Obtain a Copy of the Proposed Advisory Circular?

You may obtain an electronic copy of the advisory circular identified in this notice at the following Internet address: http://www.airweb.faa.gov/rgl. At the home page, click on “Draft Advisory Circulars.” At the next page enter AC 25.613-1X in the “Search” box. Press “GO.” If you do not have access to the Internet, you may request a copy by contacting Pat Siegrist, FAA Standardization Branch, ANM-113, Transport Airplane Directorate, Aircraft Certification Service, 1601 Lind Avenue SW., Renton, WA 98055-4056; telephone (425) 227-2126.

How Do I Submit Comments on the Advisory Circular?

You are invited to comment on the proposed advisory material by submitting written comments, data, or views. You must identify the title of the AC and submit your comments in duplicate to the address specified above. We will consider all comments received on or before the closing date for comments before issuing the final advisory material.

Discussion

Elsewhere in this Federal Register, we invite public comment on a notice of proposed rulemaking (NPRM) concerning the material strength properties and material design values requirements for transport category airplanes. The proposed rule would reinstate a provision that permits the Administrator to approve other material design values published in accepted military and industry handbooks. Additionally, other changes of a clarifying nature are proposed. These proposed revisions are intended to achieve common requirements and language between the requirements of the U.S. regulations and the Joint Aviation Requirements of Europe.

In addition to the amendments proposed in the NPRM, we announced the development of advisory material to supplement the proposal. The proposed advisory material describes acceptable methods of compliance with the proposed rule, and is intended to be reviewed along with the NPRM.

Issued in Renton, WA, on January 8, 2002.
Ali Bahrami,
Acting Manager, Transport Airplane Directorate, Aircraft Certification Service.

[FR Doc. 02-1768 Filed 1-28-02; 8:45 am]

BILLING CODE 4910-13-P